Title 3—

The President

Proclamation 9391 of January 29, 2016

American Heart Month, 2016

By the President of the United States of America

A Proclamation

Affecting people of all races and ethnicities, cardiovascular disease is the single leading cause of death for both men and women in the United States, responsible for one in three deaths in the United States each year. Though usually preventable, heart disease can manifest itself in sudden and unforeseen ways, and it costs our Nation hundreds of billions of dollars annually. During American Heart Month, we remember those we have lost to this devastating disease, promote healthy lifestyles that mitigate its impacts, and pledge to continue our fight against it.

Heart disease must be addressed with urgency. Every person can take steps to reduce the risk factors associated with heart disease in themselves and in those they care about—whether as parents, caretakers, or friends—by encouraging healthy eating, physical activity, and by discouraging the use of tobacco. Almost half of all Americans face increased risk of heart disease for reasons that include being a smoker, having high blood pressure, or having high cholesterol. You can reduce your chances of developing heart disease by reducing alcohol intake, exercising regularly, maintaining a nutritious diet, living tobacco-free, and staying aware of early warning signs. For more resources and information, visit www.CDC.gov/HeartDisease.

Testing cholesterol levels for individuals particularly vulnerable to heart disease and checking blood pressure regularly are both critical preventive measures for detecting heart disease early on, and thanks to the Affordable Care Act, tens of millions of Americans now have access to recommended preventive services for free. First Lady Michelle Obama's Let's Move! initiative is working to reduce obesity—another primary contributing factor to cardiovascular issues—among children to offset their susceptibility to heart disease and other obesity-related health problems. Additionally, my Administration launched Million Hearts 5 years ago, a national initiative aimed at preventing 1 million heart attacks and strokes by 2017. Moving forward, we will continue to invest in research that helps target medical treatments and gives all of us access to the personalized information we need to keep ourselves and our families healthy.

Michelle and I encourage everyone to participate in National Wear Red Day on Friday, February 5, by wearing red in honor of those we have lost to heart disease and to raise awareness of this devastating disease and the steps we can all take to prevent it. Every 43 seconds, someone in the United States suffers a heart attack, and many of them are fatal. Combating heart disease is imperative for improving public health in America, and together, we can work to ensure everybody knows its signs and symptoms and can access needed care. This month, let us renew our efforts to raise awareness of this disease and its consequences, and let us recommit to building a healthier, heartier future for all.

In acknowledgment of the importance of the ongoing fight against cardiovascular disease, the Congress, by Joint Resolution approved December 30, 1963, as amended (77 Stat. 843; 36 U.S.C. 101), has requested that the President issue an annual proclamation designating February as “American Heart Month.”

NOW, THEREFORE, I, BARACK OBAMA, President of the United States of America, do hereby proclaim February 2016 as American Heart Month, and I invite all Americans to participate in National Wear Red Day on February 5, 2016. I also invite the Governors of the States, the Commonwealth of Puerto Rico, officials of other areas subject to the jurisdiction of the United States, and the American people to join me in recognizing and reaffirming our commitment to fighting cardiovascular disease.

IN WITNESS WHEREOF, I have hereunto set my hand this twenty-ninth day of January, in the year of our Lord two thousand sixteen, and of the Independence of the United States of America the two hundred and fortieth.

[FR Doc. 2016-02218

Filed 2-2-16; 11:15 am]

Billing code 3295-F6-P